DEPARTMENT OF THE INTERIOR

Office of the Secretary

[FWS-HQ-FHC-2013-N176; FXFR13360900000-134-FF09F14000]

National Environmental Policy Act: Implementing Procedures; Addition to Categorical Exclusions for U.S. Fish and Wildlife Service

AGENCY: Department of the Interior.

ACTION: Notice; reopening of comment period.

SUMMARY: This notice announces a reopening of the public comment period on the proposed categorical exclusion under the National Environmental Policy Act (NEPA) for the U.S. Fish and Wildlife Service. The proposed categorical exclusion pertains to adding species to the injurious wildlife list under the Lacey Act. The addition of this categorical exclusion to the Department of the Interior's Departmental Manual will improve conservation activities by making the NEPA process for listing injurious species more efficient. If you have previously submitted comments, please do not resubmit them because we have already incorporated them in the public record and will fully consider them in our final decision.

DATES: We will consider comments we receive on or before October 15, 2013.

ADDRESSES: Comment submission: Send comments to Susan Jewell, by one of the following methods:

• U.S. mail or hand delivery: U.S. Fish and Wildlife Service; 4401 N. Fairfax Drive, Suite 700, Arlington, VA 22203; or

• Email: prevent_invasives@fws.gov (emails must have “Categorical Exclusion” in the subject line).

Document availability: You may view the Departmental Manual at http://elips.doi.gov/elips/.

FOR FURTHER INFORMATION CONTACT: Susan Jewell, U.S. Fish and Wildlife Service, 4401 N. Fairfax Drive, Arlington, VA 22203; telephone 703-358-2416. If you use a telecommunications device for the deaf, please call the Federal Information Relay Service at 800-877-8339.

SUPPLEMENTARY INFORMATION:

Background

On July 1, 2103, the Department of the Interior published a notice in the Federal Register (78 FR 39307) proposing to add a categorical exclusion to the Departmental Manual for the U.S. Fish and Wildlife Service. The 30-day comment period for the notice ended on July 31, 2013. We received requests to allow more time for public comments, and, therefore, we are reopening the comment period for an additional 60 days.

Public Comments

Any comments to be considered on this proposed addition to the list of categorical exclusions in the Departmental Manual must be received by the date listed in DATES at the location listed in ADDRESSES. Comments received after that date will be considered only to the extent practicable. Comments, including names and addresses of respondents, will be posted at http://www.fws.gov/injuriouswildlife. Before including your address, telephone number, email address, or other personal identifying information in your comment, you should be aware that your entire comment, including your personal identifying information, may be made publicly available at any time. While you can ask us in your comment to withhold your personal identifying information from public review, we cannot guarantee that we will be able to do so. If you have previously submitted comments, please do not resubmit them because we have already incorporated them in the public record and will fully consider them in our final decision. Comments received between the close of the first comment period and the opening of the new one will still be accepted and considered.

Dated: August 12, 2013.
Willie R. Taylor,
Director, Office of Environmental Policy and Compliance.

[FR Doc. 2013-19922 Filed 8-15-13; 8:45 am]

BILLING CODE 4310-55-P